DEPARTMENT OF THE INTERIOR

Fish and Wildlife Service

Okefenokee National Wildlife Refuge

AGENCY: Fish and Wildlife Service, Interior.

ACTION: Notice of availability of the Draft Comprehensive Conservation Plan and Environmental Assessment for Okefenokee National Wildlife Refuge in Folkston, Georgia.

SUMMARY: This notice announces that a Draft Comprehensive Conservation Plan and Environmental Assessment for Okefenokee National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation, wildlife photography, and environmental education and interpretation.

DATES: Three meetings will be held to present the plan to the public and accept formal public comments. Mailings, newspaper articles, and postings on the refuge Web site will be the avenues to inform the public of the date and time of the meetings. Individuals wishing to comment on the Draft Comprehensive Conservation Plan and Environmental Assessment for Okefenokee National Wildlife Refuge should do so no later than September 16, 2005.

ADDRESSES: Requests for copies of the Draft Comprehensive Conservation Plan and Environmental Assessment should be addressed to Mr. M. Skippy Reeves, Refuge Manager, Okefenokee National Wildlife Refuge—CCP, Route 2, Box 3330, Folkston, Georgia 31537; Telephone 912/496-7366; Fax 912/496-3332. The draft plan and environmental assessment may be accessed and downloaded from the Fish and Wildlife Service's Internet Web site http://www.southeast.fws.gov/planning/. Comments on the draft plan and environmental assessment may be submitted to the above address or via electronic mail to okefenokee@fws.gov. Please include CCP in the subject line and your name and return address in your Internet message. Our practice is to make comments, including names and home addresses of respondents, available for public review during regular business hours. Individual respondents may request that we withhold their home addresses from the record, which we will honor to the extent allowable by law.

SUPPLEMENTARY INFORMATION: The draft plan identifies and evaluates four alternatives for managing the refuge over the next 15 years.

Alternatives

Alternative 1. Maintain Current Management (No Action Alternative)

The current management of Okefenokee National Refuge recognizes the importance of looking beyond the refuge boundary. Open communication and partnerships with adjacent landowners and interest groups downstream from the Okefenokee Swamp are important aspects of the current management strategy. To protect the resources outside the refuge boundary, as well as within the refuge, cooperation during emergency fire/weather incidents has been established and would be continued under this alternative. Upland management would emphasize the maintenance and restoration of longleaf pine communities. The refuge would continue to seek partnerships with adjacent landowners to enhance the refuge's habitat for the endangered red-cockaded woodpecker and associated species by providing corridors between refuge upland management compartments or expanding foraging and nesting areas. Environmental parameters would be monitored, and additional parameters would be added as issues arise. Current staff would monitor selected flora and fauna for long-term trends. Other institutions would be sought to investigate topics in detail. The protection of wilderness qualities is considered in management decisions and standard operating procedures are established for management activities within the wilderness. The use of fire to benefit the resources is implemented and expanded. The refuge messages are disseminated through the public services program. All six priority uses (e.g., hunting, fishing, wildlife observation, wildlife photography, and environmental education and interpretation) are incorporated in the current program. Emphasis is on refuge facilities and activities with some outreach avenues established at both the local and State level. Recreational solitude is emphasized through the current canoe system. Current staffing has limited the quantity and quality of the service the refuge provides. With the addition of 20 requested positions identified in the Refuge Operating Needs System (RONS), staffing would be adequate to meet the management needs at the level presented in this alternative.

Alternative 2. Integrated Landscape Management (Preferred Alternative)

Threats to the refuge are becoming more prominent as development activities occur in northeast Florida and southeast Georgia. Although Okefenokee Refuge is a large system in itself, it can be greatly compromised by activities a distance away from its boundary. Through Alternative 2, the refuge staff fully recognizes the impact these activities may have on the integrity of the swamp. These “zones of influence” vary depending on the resources involved. Under this alternative, the staff would continue activities as stated in Alternative 1 and extend beyond the immediate neighbors to address issues associated with the aquifer, air shed, and biota exchange pathways. Extensive resource sharing and networking with other refuges, State agencies, organizations, specialists, researchers, and private citizens would expand the knowledge base and develop cooperation between interest groups. Restoration of natural systems, native communities, and healthy environments would be emphasized, thus promoting a high quality of life regionally. Within the refuge, the original refuge purpose, natural processes, and the wilderness philosophy will be strongly considered in all decisions. Management within the wilderness will be evaluated through the Minimum Requirement Decision Guide. Monitoring environmental parameters, flora, and fauna would be incorporated into an integrated study to gain knowledge on the health of the Okefenokee ecosystem. The refuge and surrounding area would be promoted, linking recreational and educational avenues. Education and outreach would be expanded with an emphasis on the health of the whole ecosystem and the links between the components. Staffing would be expanded to meet the needs of partners and the greater number of interest groups, and accommodate data and resource sharing. A significant increase in staff is presented in this alternative due to the time necessary to manage the refuge with a greater consciousness for the wilderness resource. Ninety-eight additional staff members would be needed to fully implemented this alternative at the highest quality level.

Alternative 3. Conservation Through National Processes

Management of the upland management compartments outside the wilderness boundary would be similar to Alternative 2, including the interest in networking and partnerships to address outside threats within the “zones of influence.” This alternative differs from the others in the concept of embracing the exclusive use of natural processes to govern the health of the Okefenokee Wilderness Area. It also promotes primitive and unconfined recreation. Hand tools and non-motorized equipment would be used exclusively to maintain the network of boat trails. The use of motorized boats by the public in designated areas, as established in the legislation for the Okefenokee Wilderness Area, would continue; however, motorized transportation, such as motorboats, airboats, and helicopters, and equipment would not be allowed for administrative purposes except for emergencies such as wildland fires. Large crews in canoes using hand tools would maintain the trail system. To promote primitive and unconfined recreation, the canoe reservation system would be eliminated, along with all platforms, toilets, and trail markers. The visitors would be allowed to travel throughout the swamp and camp where they are able. Natural processes are relied on exclusively with no prescribed fires conducted on interior wilderness islands. Protection of private property adjacent to the refuge would be focused on due to the increased threat of wildland fires moving off refuge lands. Land purchases to create a fire management zone outside the wilderness area would be considered. Fire, water levels, and weather parameters would be monitored to make predictions to meet the needs of adjacent landowners. Other monitoring, of environmental parameters, fauna, and flora, would continue at a level to determine general long-term trends as they relate to natural processes. Obtaining data on trends of the endangered red-cockaded woodpecker on interior islands would be limited to Billys Island, which is accessible by boat. Because of the time and effort needed to maintain trails and conduct surveys in compliance with the specified tool restrictions, a significant increase in staff over the number that would be required to implement Alternative 2 is necessary. A total of 129 staff members, mostly in resource management, have been identified to fully implement this alternative.

Alternative 4. Refuge-Focused Management

This alternative would focus the refuge staff activities internally, within the jurisdictional boundaries, on the land that is directly under the care of the U.S. Fish and Wildlife Service as Okefenokee National Wildlife Refuge. Collecting information on outside threats would continue but few partnerships would be pursued. The refuge would rely on interest groups to carry the refuge's concerns forward to the appropriate level. The restoration of native communities and the health of resident wildlife species would be emphasized on refuge lands. Monitoring of environmental parameters, flora, and fauna would demonstrate long-term trends, environmental changes, or the results of management practices on refuge lands. Research, management, protection, education, and public use would be conducted to maximize benefits to Okefenokee Refuge specifically. Land acquisition on high-priority areas, rather than partnership formation, would be emphasized. This alternative requires an increase in staff similar to that of Alternative 2 because of the additional time and manpower needed to conduct surveys, trail maintenance, and other management functions within the wilderness area. The additional staff identified in Alternative 2 for developing and maintaining partnerships and outreach are not included in Alternative 4 due to Alternative 4's emphasis on refuge lands only. Eighty-four additional staff members are necessary to fully implement this alternative.

The Okefenokee Refuge is situated in the southeastern Georgia counties of Ware, Charlton, and Clinch, and in northeastern Florida's Baker County, roughly between latitudes 30°33′ and 31°05′ North and longitudes 82°07′ and 82°33′ West. In 1937, with Executive Order 7593 (later amended by Executive Order 7994), President Franklin Delano Roosevelt established the refuge, designating it as “a refuge and breeding ground for migratory birds and other wildlife.” It protects the ecological system of the 438,000-acre Okefenokee Swamp. The refuge consists presently of 395,080 acres. The refuge's approved acquisition boundary includes 519,480 acres, 123,480 acres beyond the current refuge acres. Approximately 371,000 acres of the Okefenokee Swamp wetlands are incorporated into the refuge; and 353,981 acres within the swamp were designated as wilderness by the Okefenokee Wilderness Act of 1974, making it the third largest National Wilderness Area east of the Mississippi River. In 1986, the Okefenokee Refuge was designated by the Wetlands Convention as a Wetland of International Importance.

Okefenokee's natural beauty was first threatened in the 1890s, when attempts were made to drain the swamp to facilitate logging operations. The Suwannee Canal was dug 11.5 miles into the swamp from Camp Cornelia. After the failure of this project, other interests acquired the swamp and began removing timer in 1909, using a network of tram roads extending deep into the major timbered areas. When logging operations were halted in 1927, more than 423 million board feet of timber, mostly cypress, had been removed from the swamp.

The establishment of Okefenokee Refuge in 1937 marked the culmination of a movement that had been initiated at least 25 years earlier by a group of scientists from Cornell University who recognized the educational, scientific, and recreational values of this unique area. The Okefenokee Preservation Society, formed in 1918, promoted nationwide interest in the swamp. With the support of State and local interests and numerous conservation and scientific organizations, the Federal Government acquired most of the swamp for refuge purposes in 1936.

Okefenokee Refuge preserves the unique qualities of the Okefenokee Swamp for future generations to enjoy. The swamp is considered the headwaters of the Suwannee and St. Marys Rivers. Habitats provide for threatened and endangered species, such as red-cockaded woodpeckers, wood storks, indigo snakes, and a wide variety of other wildlife species. It is world renowned for its amphibian populations that are bio-indicators of global health. More than 600 plant species have been identified on refuge lands.

Combining Okefenokee National Wildlife Refuge with Osceola National Forest, private timberlands, and State-owned forests, more than 1 million contiguous acres provide wildlife habitat and recreational opportunities. Researchers and students study the resources.

The Georgia communities of Waycross (12 miles north), Folston (7 miles east), St. George (8 miles southeast), Fargo (5 miles west), and Homerville (20 miles northwest) surround the refuge, and Jacksonville, Florida is 40 miles to the southeast. Nearly 300,000 people visit the refuge each year, making it the 16th most visited refuge in the National Wildlife Refuge System. In 1999, the economic impact of tourists in Charlton, Ware, and Clinch Counties in Georgia exceeded $67 million.

The Okenfenokee swamp has shaped the culture of southeast Georgia. Most residents of Charlton, Clinch, and Ware Counties have ancestors who once lived or worked in the swamp and view the swamp as a part of their heritage.

Authority: This notice is published under the authority of the National Wildlife Refuge System Improvement ACt of 1997, Public Law 105-57.

Dated: May 13, 2005.
Cynthia K. Dohner,
Acting Regional Director.

[FR Doc. 05-15182 Filed 8-1-05; 8:45 am]

BILLING CODE 4310-55-M